ENVIRONMENTAL PROTECTION AGENCY

[FRL-8475-1]

Clean Water Act Section 303(d): Final Agency Action on 14 Total Maximum Daily Loads (TMDLs)

AGENCY: Environmental Protection Agency (EPA).

ACTION: Notice of availability.

SUMMARY: This notice announces final agency action on 14 TMDLs prepared by EPA Region 6 for waters listed in Louisiana's Red and Sabine River Basins, under section 303(d) of the Clean Water Act (CWA). Documents from the administrative record file for the 14 TMDLs, including TMDL calculations and responses to comments, may be viewed at http://www.epa.gov/earth1r6/6wq/npdes/tmdl/index.htm. The administrative record file may be examined by calling or writing Ms. Diane Smith at the address below. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. EPA established five of these TMDLs pursuant to a consent decree entered in this lawsuit.

EPA Takes Final Agency Action on 14 TMDLs

By this notice EPA is taking final agency action on the following 14 TMDLs for waters located within the Louisiana river basins:

Subsegment | Waterbody name | Pollutant
100401-0556575 | Ivan Lake | Mercury.
100703 | Black Lake and Clear Lake | Mercury.
100705 | Kepler Lake | Mercury.
100709 | Grand Bayou—Headwaters to Black Lake Bayou | Mercury.
100709-001 | Grand Bayou Reservoir | Mercury.
100803 | Saline Bayou—From Saline Lake to Red River | Mercury.
101302 | Iatt Lake | Mercury.
101501 | Big Saline Bayou—Catahoula Lake to Saline Lake | Mercury.
101502 | Saline Lake | Mercury.
101504 | Saline Bayou—Larto Lake to Saline Lake (scenic) | Mercury.
101505 | Larto Lake | Mercury.
101506 | Big Creek—Headwaters to Saline Lake | Mercury.
110101 | Toledo Bend Reservoir—TX-LA Line to Toledo Bend Dam | Mercury.
110503 | Vernon Lake | Mercury.

EPA requested the public to provide EPA with any significant data or information that might impact the 14 Final TMDLs in the Federal Register Notice: Volume 72, Number 137, page 39420 (July 18, 2007). The comments received and the EPA's response to comments and the TMDLs may be found at http://www.epa.gov/earth1r6/6wq/npdes/tmdl/index.htm.

Dated: September 24, 2007
William K. Honker,
Deputy Director, Water Quality Protection Division, EPA Region 6.

[FR Doc. E7-19335 Filed 9-28-07; 8:45 am]

BILLING CODE 6560-50-P